DEPARTMENT OF ENERGY

Federal Energy Regulatory Commission

[Docket Nos. EC02-23-004, et al.]

Trans-Elect, Inc., et al.; Electric Rate and Corporate Filings

October 29, 2002.

The following filings have been made with the Commission. The filings are listed in ascending order within each docket classification.

1. Trans-Elect, Inc.; Michigan Transco Holding, Limited Partnership, and ER02-320-006, Consumers Energy Company, and Michigan Electric Transmission Company.

[Docket Nos. EC02-23-004]

Take notice that on October 23, 2002, Michigan Electric Transmission Company, LLC submitted the response to Commission's letter issued on September 23, 2002 in the referenced proceedings.

Copies of the transmittal letter included as part of this filing were served on all parties on the Commission's official service list in these proceedings and on all affected state commissions.

Comment date: November 13, 2002.

2. Midwest Independent Transmission System Operator, Inc.

[Docket No. ER03-86-000]

Take notice that on October 24, 2002, the Midwest Independent Transmission System Operator, Inc. (Midwest ISO) tendered for filing proposed revisions to its Open Access Transmission Tariff (OATT), FERC Electric Tariff, Second Revised Volume No. 1 in order to accommodate the participation of independent transmission companies (ITCs) in the Midwest ISO. The Midwest ISO has requested an effective date of December 23, 2002.

The Midwest ISO has requested waiver of the requirements set forth in 18 CFR 385.2010. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: November 14, 2002.

3. American Electric Power Service Corporation

[Docket No. ER03-87-000]

Take notice that on October 25, 2002, the American Electric Power Service Corporation (AEPSC) tendered for filing an executed Interconnection and Operation Agreement between Appalachian Power Company and Mirant Danville, LLC. The agreement is pursuant to the AEP Companies' Open Access Transmission Service Tariff (OATT) that has been designated as the Operating Companies of the American Electric Power System FERC Electric Tariff Third Revised Volume No. 6, effective July 31, 2001.

AEP requests an effective date of December 23, 2002. A copy of the filing was served upon Mirant Danville and Virginia State Corporation Commission.

Comment Date: November 15, 2002.

4. Cleco Utility Group, Cleco Utility Group, Inc. Docket No. OA97-325-002

[Docket No. OA97-282-002]

Take notice that on October 25, 2002, Cleco Power LLC submitted a filing in compliance with the Federal Regulatory Commission's September 25, 2002 Order.

Comment Date: November 25, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-28303 Filed 11-5-02; 8:45 am]

BILLING CODE 6717-01-P